DEPARTMENT OF TRANSPORTATION

Surface Transportation Board

[Docket No. AB 433 (Sub-No. 4X)]

Idaho Northern & Pacific Railroad Company—Discontinuance of Trackage Rights Exemption—in Canyon, Payette and Washington Counties, ID

On September 19, 2012, Idaho Northern & Pacific Railroad Company (INPR) filed with the Surface Transportation Board (Board) a petition under 49 U.S.C. 10502 for exemption from the provisions of 49 U.S.C. 10903 to discontinue overhead trackage rights over a 53.09-mile line of railroad owned by Union Pacific Railroad Company, between milepost 519.0 at Weiser, and milepost 465.91, at Caldwell Junction, in Canyon, Payette and Washington Counties, Idaho.¹ The line traverses U.S. Postal Service Zip Codes 83605, 83607, 83660, 83661, 83672, and 97914.

¹ INPR was granted authority to acquire the trackage rights as part of the transaction in Idaho Northern & Pacific Railroad Company—Lease, Acquisition and Operation Exemption—Union Pacific Railroad Company, FD 32370 (ICC served Dec. 7, 1993). According to INPR, the portion of the trackage rights located between milepost 465.91, at Caldwell Junction, and milepost 454.0, at Nampa, was assigned to Boise Valley Railroad, Inc., in Boise Valley Railroad, Inc.—Assignment of Lease Exemption—Union Pacific Railroad Company and Idaho Northern & Pacific Railroad Company, FD 35259 (STB served Oct. 2, 2009).

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by January 7, 2013.

Because this is a discontinuance proceeding and not an abandonment, trail use/rail banking and public use conditions are not appropriate. Similarly, no environmental or historic documentation is required under 49 CFR 1105.6(c)(2) and 1105.8(b).

Any offer of financial assistance (OFA) under 49 CFR 1152.27(b)(2) to subsidize continued rail service will be due no later than 10 days after service of a decision granting the petition for exemption. Each OFA must be accompanied by the filing fee, which is currently set at $1,600. See 49 CFR 1002.2(f)(25).

All filings in response to this notice must refer to Docket No. AB 433 (Sub-No. 4X) and must be sent to: (1) Surface Transportation Board, 395 E Street SW., Washington, DC 20423-0001; and (2) Karl Morell, 655 Fifteenth Street NW., Suite 225, Washington, DC 20005. Replies to the petition are due on or before October 29, 2012.

Persons seeking further information concerning discontinuance procedures may contact the Board's Office of Public Assistance, Governmental Affairs, and Compliance at (202) 245-0238 or refer to the full abandonment and discontinuance regulations at 49 CFR 1152. Questions concerning environmental issues may be directed to the Board's Office of Environmental Analysis at (202) 245-0305. [Assistance for the hearing impaired is available through the Federal Information Relay Service (FIRS) at 1-800-877-8339.]

Board decisions and notices are available on our Web site at www.stb.dot.gov.

Decided: October 3, 2012.
By the Board, Rachel D. Campbell, Director, Office of Proceedings.
Derrick A. Gardner,
Clearance Clerk.

[FR Doc. 2012-24796 Filed 10-9-12; 8:45 am]

BILLING CODE 4915-01-P